DEPARTMENT OF TRANSPORTATION

Surface Transportation Board

[STB Finance Docket No. 34284]

Southwest Gulf Railroad—Construction and Operation Exemption—In Medina County, Texas

AGENCY: Surface Transportation Board, DOT.

ACTION: Notice of Availability and Request for Public Review and Comment on a Draft Programmatic Agreement.

SUMMARY: The Surface Transportation Board's (STB or Board) Section of Environmental Analysis (SEA) is making available to the public, the official “Section 106” consulting parties, Indian tribes, and Federal, State, and local agencies, a Draft Programmatic Agreement (PA) for review and comment in the rail line construction and operation proposal described below. The Draft PA addresses historic preservation and cultural resource issues and is being developed to satisfy the requirements of section 106 of the National Historic Preservation Act (NHPA) (16 U.S.C. 470f) and the regulations of the Advisory Council on Historic Preservation at 36 CFR 800.14 (b). Comments on the PA must be post-marked to the address below by November 19, 2007. To be considered, comments must focus on the contents of the PA. Comments addressing matters outside the PA or post-marked after the due date will not be considered.

On February 27, 2003, the Southwest Gulf Railroad (SGR) filed a petition with the STB seeking the Board's authorization to construct and operate a new rail line in Medina County, Texas (Finance Docket No. 34284). SGR's proposal involves the construction and operation of a rail line approximately seven miles long from a Vulcan Construction Materials, LP (VCM) proposed limestone quarry to the Union Pacific (UP) rail line near Dunlay, Texas. The Board issued a decision on May 19, 2003, finding that, from a transportation perspective, the proposed construction and operation met the standards of 49 U.S.C. 10502.

SEA issued a Draft Environmental Impact Statement (DEIS) for public review and comment in this proceeding in 2004. The DEIS assessed four potential rail routes for SGR's proposed rail line to the VCM proposed quarry, as well as the No-Action Alternative (the use of trucks to transport the limestone to the UP rail line if SGR's rail line were not built). Based on the comments received on the DEIS, SEA decided to prepare a Supplemental Draft Environmental Impact Statement (SDEIS) for public review and comment. SEA issued the SDEIS on December 8, 2006. The SDEIS included additional historic property evaluation and analyzed three additional rail routes to the east of the routes originally considered. The SDEIS preliminarily concluded that two of these eastern routes would be environmentally preferable to the routes previously studied in the DEIS because they would avoid or minimize impacts to rural historic landscapes in the project area discovered during the course of the environmental review. The comment period on the SDEIS closed on January 29, 2007.

SEA is currently reviewing the comments received and preparing a Final Environmental Impact Statement (FEIS) that responds to the comments received on the DEIS and SDEIS. Once SEA issues the FEIS, the environmental review process will be concluded, and the Board will issue a final decision on SGR's proposal. Before issuing the FEIS, SEA will first complete the “Section 106 process” of the NHPA, which requires Federal agencies to consider the effects of their licensing actions on historic sites and structures. An executed PA is evidence of the agencies compliance with section 106.

The Draft PA is available for review on the Board's Web site at http://www.stb.dot.gov by clicking on the “Environmental Matters” link, then “Key Cases” then the “Medina County, Texas” link. Please refer to Finance Docket No. 34284 in all correspondence, including any e-filings.

DATES: Written comments on the Draft PA must be post-marked by November 19, 2007.

ADDRESSES: Send an original and two (2) copies of comments referring to STB Finance Docket No. 34284 to: Surface Transportation Board, Case Control Unit, 395 E Street, SW., Washington, DC 20423, Attention: Diana Wood, Section of Environmental Analysis.

FOR FURTHER INFORMATION CONTACT: Diana Wood (202) 245-0302; e-mail: woodd@stb.dot.gov. Federal Information Relay Service for the hearing impaired: 1-800-877-8339.

Decided: October 18, 2007.
By the Board, Victoria Rutson, Chief, Section of Environmental Analysis.
Vernon A. Williams,
Secretary.

[FR Doc. E7-20537 Filed 10-17-07; 8:45 am]

BILLING CODE 4915-01-P